DEPARTMENT OF TRANSPORTATION

Federal Aviation Administration

Eighth Meeting: RTCA Special Committee 223: Airport Surface Wireless Communications

AGENCY: Federal Aviation Administration (FAA), Department of Transportation (DOT).

ACTION: Notice of RTCA Special Committee 223: Airport Surface Wireless Communications meeting.

SUMMARY: The FAA is issuing this notice to advise the public of a meeting of RTCA Special Committee 223: Airport Surface Wireless Communications.

DATES: The meeting will be held February 22-23, 2011 from 9 a.m. to 5 p.m.

ADDRESSES: The meeting will be held at Harris, Customer Briefing Center, 1025 W. NASA Boulevard, Building B, Melbourne, Florida 32901, telephone 321-727-9696. Please RSVP to Glory Sprayberry, gspraybe@harris.com, and A. Ahrens, aahrens@harris.com. If you are not a U.S. citizen, please include your visitor name, company/government agency, country of citizenship, and passport number with your RSVP so that arrangements can be made with Harris security for attendance at Harris facilities.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., and Appendix 2), notice is hereby given for a RTCA Special Committee 223: Airport Surface Wireless Communications meeting. Agenda:

Tuesday, February 22, 2011

• Tuesday Morning

• Welcome, Introductions, Administrative Remarks by Special Committee Leadership

• Designated Federal Officer (DFO): Mr. Brent Phillips

• Co-Chair: Mr. Aloke Roy, Honeywell International

• Co-Chair: Mr. Ward Hall, ITT Corporation

• Agenda Overview

• Review and Approve Plenary Seven Meeting Summary, RTCA Paper No. 009-11/SC223-016, and action item status

• AeroMACS Profile Working Group Status

• AeroMACS User Services and Applications Ad-Hoc Working Group Status

• Tuesday Afternoon

• Discussion of AeroMACS Profiles FRAC Report

• Tuesday Evening

• WiMax Forum Coordination

Wednesday, February 23, 2011

• Wednesday Morning—MOPS WG Breakout Session

• Review relevant MOPS Documents as reference

• Review the EUROCAE WG-82 straw man MOPS proposal

• Discuss MOPS content detail versus referencing other AeroMACS Specs

• Review RTCA MOPS Drafting Guide and make Work Assignments

• Wednesday Afternoon—Reconvene Plenary

• Recap FRAC results and prepare Plenary Report for PMC

• MOPS WG Status Report and Plenary Guidance

• Establish Agenda, Date and Place for the next plenary meeting

• Review of Meeting summary report

• Adjourn

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC on January 27, 2011.
Robert L. Bostiga,
RTCA Advisory Committee.

[FR Doc. 2011-2319 Filed 2-2-11; 8:45 am]

BILLING CODE 4910-13-P